DEPARTMENT OF TRANSPORTATION

Pipeline and Hazardous Materials Safety Administration

Office of Hazardous Materials Safety; Notice of Application for Exemptions

AGENCY: Pipeline and Hazardous Materials Safety Administration, DOT.

ACTION: List of Applications for Exemption.

SUMMARY: In accordance with the procedures governing the application for, and the processing of, exemptions from the Department of Transportation's Hazardous Material Regulations (49 CFR Part 107, Subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before July 21, 2005.

Address Comments To: Record Center, Pipeline and Hazardous Materials Safety Administration, U.S. Department of Transportation, Washington, DC 20590.

Comments should refer to the application number and be submitted in triplicate. If Confirmation of receipt of comments is desired, include a self-addressed stamped postcard showing the exemption number.

FOR FURTHER INFORMATION CONTACT: Copies of the application are available for inspection in the Records Center, Nassif Building, 400 7th Street SW., Washington, DC or at http://dms.dot.gov.

This notice of receipt of applications for modification of exemption is published in accordance with Part 107 of the Federal hazardous materials transportation law (49 U.S.C. 5117(b); 49 CFR 1.53(b)).

Issued in Washington, DC, on June 14, 2005.
R. Ryan Posten,
Exemption Program Officer, Office of Hazardous Materials Safety Exemptions & Approvals.

Application No. | Docket No. | Applicant | Regulation(s) affected | Nature of exemption thereof
NEW EXEMPTION
14196-N |  | Union Pacific Railroad, Omaha, NE | 49 CFR 174.67(i) and (j) | To authorize rail cars containing a combustible liquid to remain attached to unloading connectors without the physical presence or an unloader. (mode 2).
14197-N |  | GATX Rail Corporation, Chicago, IL | 49 CFR 173.31(b)(5) | To authorize the transportation in commerce of tank cars containing certain hazardous materials without bottom discontinuity protection. (mode 2).
14199-N |  | RACCA Plymouth, MA | 49 CFR 175.33 | To authorize the transportation in commerce by air of certain hazardous materials with alternative notification to the pilot in command. (modes 4, 5).
14201-N |  | Murray Air, Inc., Ypsilanti, MI | 49 CFR 172.101 Column (9B); 172.204(c)(3); 173.27(b)(2)(3); 175.30 | To authorize the transportation in commerce by cargo only aircraft of Class 1 explosive which are forbidden or exceed quantities presently authorized. (mode 4).
14204-N |  | Great lakes Chemicals Corporation, Lafayette, IN | 49 CFR 173.226(b) and (d) | To authorize the transportation in commerce of bromine in single Monel packagings. (mode 1).
14205-N |  | The Clorox Company, Pleasanton, CA | 49 CFR 173.306(a)(1) and 173.306(a)(3)(v) | To authorize the transportation in commerce of Division 2.2 aerosols in plastic packagings. (modes 1, 2).
14206-N |  | Digital Wave Corporation, Englewood, CO | 49 CFR 180.205 | To authorize the transportation in commerce of certain cylinders that have been ultrasonically retested for use in transporting Division, 2.1, 2.2, 2.3 materials (modes 1, 2, 4).
14207-N |  | GATX Rail Corporation, Chicago, IL | 49 CFR 179.13 | To authorize the transportation in commerce of Sodium hydroxide solution in DOT specification 111A100W-1 tank car tanks that exceed the maximum allowable gross weight on rail (263,000 lbs.). (mode 2).

[FR Doc. 05-12132 Filed 6-20-05; 8:45 am]

BILLING CODE 4909-60-M